DEPARTMENT OF TRANSPORTATION

Federal Aviation Administration

14 CFR Part 39

[Docket No. FAA-2019-0129; Product Identifier 2019-NE-01-AD; Amendment 39-19683; AD 2019-14-05]

RIN 2120-AA64

Airworthiness Directives; B/E Aerospace Fischer GmbH Common Seats

AGENCY: Federal Aviation Administration (FAA), DOT.

ACTION: Final rule.

SUMMARY: The FAA is adopting a new airworthiness directive (AD) for certain B/E Aerospace Fischer GmbH (B/E Aerospace Fischer) Common Seats 170/260 H160. This AD was prompted by the discovery during testing that the energy absorber (EA) may not function as intended during emergency landing. This AD requires removing and replacing the EA assemblies on the affected seats. The FAA is issuing this AD to address the unsafe condition on these products.

DATES: This AD is effective September 3, 2019.

The Director of the Federal Register approved the incorporation by reference of a certain publication listed in this AD as of September 3, 2019.

ADDRESSES: For service information identified in this final rule, contact B/E Aerospace Fischer GmbH, Müller-Armack-Str. 4, D-84034 Landshut, Germany; phone: +49 (0) 871 93248-0; fax: +49 (0) 871 93248-22; email: spares@fischer-seats.de. You may view this service information at the FAA, Engine and Propeller Standards Branch, 1200 District Avenue, Burlington, MA 01803. For information on the availability of this material at the FAA, call 781-238-7759. It is also available on the internet at http://www.regulations.gov by searching for and locating Docket No. FAA-2019-0129.

Examining the AD Docket

You may examine the AD docket on the internet at http://www.regulations.gov by searching for and locating Docket No. FAA-2019-0129; or in person at Docket Operations between 9 a.m. and 5 p.m., Monday through Friday, except Federal holidays. The AD docket contains this final rule, the mandatory continuing airworthiness information (MCAI), the regulatory evaluation, any comments received, and other information. The address for Docket Operations is U.S. Department of Transportation, Docket Operations, M-30, West Building Ground Floor, Room W12-140, 1200 New Jersey Avenue SE, Washington, DC, 20590.

FOR FURTHER INFORMATION CONTACT: Dorie Resnik, Aerospace Engineer, Boston ACO Branch, FAA, 1200 District Avenue, Burlington, MA 01803; phone: 781-238-7693; fax: 781-238-7199; email: dorie.resnik@faa.gov.

SUPPLEMENTARY INFORMATION:

Discussion

The FAA issued a notice of proposed rulemaking (NPRM) to amend 14 CFR part 39 by adding an AD that would apply to certain B/E Aerospace Fischer Common Seats 170/260 H160. The NPRM published in the Federal Register on April 9, 2019 (84 FR 14041). The NPRM was prompted by the discovery during testing that the EA may not function as intended during emergency landing. The NPRM proposed to require removing and replacing the EA assemblies on the affected seats. The FAA is issuing this AD to address the unsafe condition on these products.

The European Union Aviation Safety Agency (EASA), which is the Technical Agent for the Member States of the European Community, has issued EASA AD 2018-0223, dated October 17, 2018 (referred to after this as “the MCAI”), to address the unsafe condition on these products. The MCAI states:

During dynamic tests of the seat energy absorber, a too long stroke was identified. Analysis indicated that, when the seat is used in low height adjustment during an emergency landing, the energy absorber may not function as intended.

This condition, if not corrected, could lead to impact on lower stop of the energy absorber stroke, possible resulting in injury to the seat occupant.

To address this unsafe condition, B/E Aerospace Fischer issued the SB, providing instructions to replace the seat energy absorber assembly and to re-identify the seat.

For the reason described above, this [EASA] AD requires modification of the affected seats and reidentification.

You may obtain further information by examining the MCAI in the AD docket on the internet at http://www.regulations.gov by searching for and locating Docket No. FAA-2019-0129.

Comments

The FAA gave the public the opportunity to participate in developing this final rule. The FAA received no comments on the NPRM or on the determination of the cost to the public.

Conclusion

The FAA reviewed the relevant data and determined that air safety and the public interest require adopting this final rule as proposed except for minor editorial changes. The FAA has determined that these minor changes:

• Are consistent with the intent that was proposed in the NPRM for addressing the unsafe condition; and

• Do not add any additional burden upon the public than was already proposed in the NPRM.

Related Service Information Under 1 CFR Part 51

The FAA reviewed B/E Aerospace Fischer Alert Service Bulletin (ASB) No. SB0718-004, Issue A, dated June 26, 2018. The ASB describes procedures for removing and replacing the EA assemblies on Common Seats 170/260 H160. This service information is reasonably available because the interested parties have access to it through their normal course of business or by the means identified in the ADDRESSES section.

Costs of Compliance

The FAA estimates that this AD affects 341 Common Seats installed on aircraft of U.S. registry.

The FAA estimates the following costs to comply with this AD:

Estimated Costs
Action | Labor cost | Parts cost | Cost per product | Cost on U.S. operators
Inspect to determine if re-work has been accomplished | 0.2 work-hours × $85 per hour = $17 | $0 | $17 | $5,797
Replace EA Assembly | 3 work-hours × $85 per hour = $255 | 10,000 | 10,255 | 3,496,955

According to the manufacturer, some of the costs of this AD may be covered under warranty, thereby reducing the cost impact on affected individuals. The FAA does not control warranty coverage for affected individuals. As a result, the FAA has included all costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-14-05 B/E Aerospace Fischer GmbH: Amendment 39-19683; Docket No. FAA-2019-0129; Product Identifier 2019-NE-01-AD.

(a) Effective Date

This AD is effective September 3, 2019.

(b) Affected ADs

None.

(c) Applicability

(1) This AD applies to B/E Aerospace Fischer GmbH (B/E Aerospace Fischer) Common Seats 170/260 H160 with a part number and serial number combination listed in Annex A to B/E Aerospace Fischer Alert Service Bulletin (ASB) No. SB0718-004, Issue A, dated June 26, 2018.

(2) These seats are known to be installed on, but not limited to: Airbus Helicopters (formerly Airbus Helicopters Deutschland GmbH, Eurocopter Deutschland GmbH, Eurocopter España S.A.) EC135 and EC635 helicopters; and Airbus Helicopters (formerly Eurocopter, Eurocopter France, Aerospatiale) AS 332 L1 and EC 225 LP helicopters.

(d) Subject

Joint Aircraft System Component (JASC) Code 2510, Flight Compartment Equipment.

(e) Unsafe Condition

This AD was prompted by the discovery during testing that the energy absorber (EA) installed on certain B/E Aerospace Fischer Common Seats 170/260 H160 may not function as intended during emergency landing. The FAA is issuing this AD to prevent malfunction of the EA on the seat. The unsafe condition, if not addressed, could result in injuries to the occupants during an emergency landing.

(f) Compliance

Comply with this AD within the compliance times specified, unless already done.

(g) Required Actions

Within 12 months or 1,000 flight hours, whichever occurs first, after the effective date of this AD:

(1) Review each affected B/E Aerospace Fischer Common Seat as identified by part number and serial number in Annex A of the B/E Aerospace Fischer ASB No. SB0718-004, Issue A, dated June 26, 2018, to determine if rework has already been performed. If the rework has been performed, the seat will be marked with a placard stating “SB0718-004A implemented” and no further action is required.

(2) Rework the affected seats in accordance with paragraphs 1 and 2 in B/E Aerospace Fischer ASB No. SB0718-004, Issue A, dated June 26, 2018. Once the rework is complete, mark the seat by installing a placard in accordance with paragraph 3 in B/E Aerospace Fischer ASB No. SB0718-004 except submittal of the reply form to B/E Aerospace Fischer is not required.

(h) Installation Prohibition

From the effective date of this AD, do not install any seat affected by this AD onto any aircraft unless the seat is marked with a placard stating completion of B/E Aerospace Fischer ASB No. SB0718-004, Issue A, dated June 26, 2018.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD.

(2) Before using any approved AMOC, notify your appropriate principal inspector, or lacking a principal inspector, the manager of the local flight standards district office/certificate holding district office.

(j) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency (EASA) AD 2018-0223, dated October 17, 2018, for more information. You may examine the EASA AD in the AD docket on the internet at http://www.regulations.gov by searching for and locating Docket No. FAA-2019-0129.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) B/E Aerospace Fischer Alert Service Bulletin No. SB0718-004, Issue A, dated June 26, 2018.

(ii) [Reserved]

(3) For B/E Aerospace Fischer service information identified in this AD, contact B/E Aerospace Fischer GmbH, Müller-Armack-Str. 4, D-84034 Landshut, Germany; phone: +49 (0) 871 93248-0; fax: +49 (0) 871 93248-22; email: spares@fischer-seats.de.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on July 22, 2019.
Robert J. Ganley,
Manager, Engine and Propeller Standards Branch, Aircraft Certification Service.

[FR Doc. 2019-15985 Filed 7-26-19; 8:45 am]

BILLING CODE 4910-13-P